DEPARTMENT OF THE TREASURY

United States Mint

Notification of Citizens Coinage Advisory Committee June 23, 2020, Telephonic Public Meeting

ACTION: Notice of meeting.

Pursuant to United States Code, Title 31, section 5135(b)(8)(C), the United States Mint announces the Citizens Coinage Advisory Committee (CCAC) telephonic public meeting scheduled for June 23, 2020.

Date: June 23, 2020.

Time: 9:00 a.m. to 4:00 p.m. EDT.

Location: This meeting will occur via teleconference. Interested members of the public may dial in to listen to the meeting at (888) 330-1716 and Access Code: 1137147.

Subject: Review and discussion of candidate designs for the 2021 Christa McAuliffe Silver Dollar Commemorative Coin; new reverse designs for the American Eagle Gold and American Eagle Silver Coins; and candidate designs for the Larry Doby Congressional Gold Medal, the 2021 United States Marine Corps Silver Medal, the Secretary Mnuchin Secretary of the Treasury Medal, and the President Trump Presidential Medal.

Interested persons should call the CCAC HOTLINE at (202) 354-7502 for the latest update on meeting time and location.

The CCAC advises the Secretary of the Treasury on any theme or design proposals relating to circulating coinage, bullion coinage, Congressional Gold Medals, and national and other medals; advises the Secretary of the Treasury with regard to the events, persons, or places to be commemorated by the issuance of commemorative coins in each of the five calendar years succeeding the year in which a commemorative coin designation is made; and makes recommendations with respect to the mintage level for any commemorative coin recommended.

For members of the public interested in listening in to the provided call number, this is a reminder that the public attendance is for listening purposes only. Any member of the public interested in submitting matters for the CCAC's consideration is invited to submit them by email to info@ccac.gov.

FOR FURTHER INFORMATION CONTACT: Jennifer Warren, United States Mint Liaison to the CCAC; 801 9th Street NW, Washington, DC 20220; or call 202-354-7208.

(Authority: 31 U.S.C. 5135(b)(8)(C))

Eric Anderson,
Executive Secretary, United States Mint.

[FR Doc. 2020-11278 Filed 5-26-20; 8:45 am]

BILLING CODE P